DEPARTMENT OF COMMERCE

Minority Business Development Agency

Meeting of the National Advisory Council on Minority Business Enterprise

AGENCY: Minority Business Development Agency, U.S. Department of Commerce.

ACTION: Notice of open meeting.

SUMMARY: The National Advisory Council on Minority Business Enterprise (NACMBE) will hold its eighth meeting via conference call to discuss and reach consensus on recommendations for the Secretary of the Department of Commerce regarding the growth of minority-owned businesses in domestic and global markets. The members of the Council will finalize the recommendations, fulfilling NACMBE's charter mandate, in preparation for submission to the Secretary of Commerce. The agenda for the meeting may change to accommodate Council business.

DATES: The conference call will be held on Tuesday, December 10, from 2:00 p.m. to 4:00 p.m. Eastern Standard Time (EST). Members of the public wishing to participate may use the following information to listen to the conference call: CALL-IN NUMBER: 1-415-228-4956; PASSCODE: MBDA. Participants are encouraged to call in ten minutes before the scheduled start time. A limited amount of time will be available for brief oral comments from members of the public after the Council's discussion of the recommendations.

FOR FURTHER INFORMATION CONTACT: Demetria Gallagher, National Director's Office, Minority Business Development Agency (MBDA), U.S. Department of Commerce at (202) 482-1624; email: dgallagher@mbda.gov.

SUPPLEMENTARY INFORMATION: Background: The Secretary of Commerce established the NACMBE on April 28, 2010 pursuant to his discretionary authority and in accordance with the Federal Advisory Committee Act, as amended (5 U.S.C. App. 2). The NACMBE was established to provide the Secretary of Commerce with recommendations on a broad range of policy issues that affect minority businesses and their ability to access successfully the domestic and global marketplace.

Topics To Be Considered: During the meeting, the Council will discuss the final recommendations for the Secretary relating to the growth of minority-owned businesses in domestic and global markets. Recommendations for proposed programs and new policies are centered on the areas of focus for each subcommittee. The subcommittee topics include: (1) Definition of Minority Business Enterprises (MBEs) and MBDA's role, (2) Creation of an MBE Forum, and (3) Strategic Alliances and Exports.

Public Participation: The meeting is open to the public. Members of the public wishing to join the conference call must notify Demetria Gallagher at the contact information above no later than 5:00 p.m. Eastern Standard Time on Friday, December 6, 2013.

Any member of the public may submit written comments concerning the recommendations of the NACMBE to www.mbda.gov/main/nacmbe-submit-comments. The comments must be received no later than 5:00 p.m. EST on Friday, December 6, 2013, to ensure transmission to the Council prior to the meeting. Comments received after that date will be distributed to the members but may not be considered at the meeting.

Copies of the NACMBE open meeting minutes will be available to the public upon request.

Dated: November 18, 2013.
Josephine Arnold,
Chief Counsel, Minority Business Development Agency.

[FR Doc. 2013-28047 Filed 11-21-13; 8:45 am]

BILLING CODE 3510-21-P